NUCLEAR REGULATORY COMMISSION

[NRC-2020-0124]

Information Collection: Part 20 Respirator Protection Exemption Request for Non-Power Reactors/RTR and Part 20 Respirator Protection Exemption Request for Power Reactors Online Forms

AGENCY: Nuclear Regulatory Commission.

ACTION: Notice of submission to the Office of Management and Budget (OMB) for emergency processing; request for comment.

SUMMARY: The U.S. Nuclear Regulatory Commission (NRC) invites public comment on our request for emergency review for and OMB approval of the information collection that is summarized below. The information collection is entitled, “Part 20 Respirator Protection Exemption Request for Non-Power Reactors/RTR And Part 20 Respirator Protection Exemption Request for Power Reactors Online Forms”.

DATES: Submit comments by July 27, 2020. Comments received after this date will be considered if it is practical to do so, but the Commission is able to ensure consideration only for comments received on or before this date.

ADDRESSES: You may submit comments by any of the following methods:

• Federal Rulemaking Website: Go to https://www.regulations.gov/ and search for Docket ID NRC-2020-0124. For technical questions, contact the individual listed in the FOR FURTHER INFORMATION CONTACT section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0124 when contacting the NRC about the availability of information for this action. You may obtain publicly-available information related to this action by any of the following methods:

• Federal Rulemaking Website: Go to https://www.regulations.gov/ and search for Docket ID NRC-2020-0124. A copy of the collection of information and related instructions may be obtained without charge by accessing Docket ID NRC-2020-0124 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession Nos. ML20141L572 and ML20141L573. The supporting statement is available in ADAMS under Accession No. ML20141L524.

• NRC's Clearance Officer: A copy of the collection of information and related instructions may be obtained without charge by contacting NRC's Clearance Officer, David Cullison, Office of the Chief Information Officer, U.S. Nuclear Regulatory Commission, Washington, DC 20555-0001; telephone: 301-415-2084; email: Infocollects.Resource@nrc.gov.

B. Submitting Comments

Please include Docket ID NRC-2020-0124 in the subject line of your comment submission, in order to ensure that the NRC is able to make your comment submission available to the public in this docket.

The NRC cautions you not to include identifying or contact information in comment submissions that you do not want to be publicly disclosed in your comment submission. The NRC will post all comment submissions at https://www.regulations.gov/ as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

We are required to publish this notice in the Federal Register under the provisions of the Paperwork Reduction Act of 1995 (44 U.S.C. Chapter 35). In compliance with the requirement of section 3506(c)(2)(A) of the Paperwork Reduction Act of 1995, we have submitted to the Office of Management and Budget (OMB) the following requirements for emergency review. We are requesting an emergency review because the collection of this information is needed before the expiration of the normal time limits under OMB's regulations under section 1320.13 of title 5 of the Code of Federal Regulations (CFR). We cannot reasonably comply with the normal clearance procedures because an unanticipated event has occurred, as stated in 5 CFR 1320.13(a)(2)(ii). This information collection only addresses the incremental burden change to an existing clearance and not the total burden for the clearance.

1. The title of the information collection: Part 20 Respirator Protection Exemption Request for Non-Power Reactors/RTR And Part 20 Respirator Protection Exemption Request for Power Reactors Online Forms.

2. OMB approval number: 3150-0014.

3. Type of submission: Revision.

4. The form number, if applicable: There is no form number for the online submission form.

5. How often the collection is required or requested: On Occasion.

6. Who will be required or asked to respond: All holders of, and certain applicants for, nuclear power plant construction permits and operating licenses under the provisions of 10 CFR part 50, “Domestic Licensing of Production and Utilization Facilities” who seek exemptions from the medical evaluation frequency and fit-testing frequency requirements specified in 10 CFR 20.1703(c)(5)(iii) and 10 CFR 20.1703(c)(6), as allowed by 10 CFR 20.2301 “Applications for exemptions.”

7. The estimated number of annual responses: 60.

8. The estimated number of annual respondents: 60.

9. The estimated number of hours needed annually to comply with the information collection requirement or request: 120.

10. Abstract: The NRC requested an emergency review of this information collection in order to add this form to the previously approved information collection OMB Control Number 3150-0014 for a period of 6 months. The purpose of this information collection is to introduce the Part 20 Respirator Protection Exemption Request for Non-Power Reactors/RTR and the Part 20 Respirator Protection Exemption Request for Power Reactors Online Forms that simplifies the filing the exemption requests because the existing system may be too burdensome for licensees under current conditions. Under the existing collection under OMB Control No. 3150-0014, licensees are already able to seek exemptions from the requirements of 10 CFR part 20, Standards for Protection Against Radiation. This information collection only addresses the incremental burden change to this existing clearance due to the form and not the total burden for the clearance.

10 CFR part 20 contains specific requirements for respiratory protection. Due to the impacts of the COVID-19 public health emergency (PHE), the NRC will also consider exemption requests for the medical evaluation frequency and fit-testing frequency requirements specified in 10 CFR 20.1703(c)(5)(iii) and 10 CFR 20.1703(c)(6); these exemptions would allow delay of these requirements during the COVID-19 PHE as allowed by 10 CFR 20.2301 “Applications for exemptions.”

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated: May 21, 2020.
For the Nuclear Regulatory Commission.
David C. Cullison,
NRC Clearance Officer, Office of the Chief Information Officer.

[FR Doc. 2020-11321 Filed 5-26-20; 8:45 am]

BILLING CODE 7590-01-P